DEPARTMENT OF LABOR

Employment and Training Administration

Notice of a Public Meeting of the Advisory Committee on Apprenticeship (ACA)

AGENCY: Employment and Training Administration (ETA), Labor.

ACTION: Notice of a public meeting.

SUMMARY: Pursuant to Section 10 of the Federal Advisory Committee Act (FACA) (5 U.S.C. App. 2 § 10), notice is hereby given to announce a public meeting of the Advisory Committee on Apprenticeship (ACA) on Tuesday, September 17, 2013 and Thursday, September 19, 2013. The ACA is a discretionary committee established by the Secretary of Labor, in accordance with FACA, as amended in 5 U.S.C. App. 2, and its implementing regulations (41 CFR parts 101-6 and 102-3). All meetings of the ACA are open to the public.

DATES: The meeting will begin at approximately 1:30 p.m. Eastern Standard Time on Tuesday, September 17, 2013, via webinar, and will continue until approximately 4:00 p.m. The meeting will reconvene on Thursday, September 19, 2013, at the U.S. Department of Labor, at approximately 8:30 a.m. Eastern Standard Time and adjourn at approximately 4:00 p.m.

FOR FURTHER INFORMATION CONTACT: The Designated Federal Official, Mr. John V. Ladd, Administrator, Office of Apprenticeship, Employment and Training Administration, U.S. Department of Labor, 200 Constitution Avenue NW., Room N-5311, Washington, DC 20210, Telephone: (202) 693-2796 (this is not a toll-free number).

SUPPLEMENTARY INFORMATION: In order to promote cost savings, the ACA will convene virtually on Tuesday, September 17, 2013, and face-to-face at the U.S. Department of Labor on September 19, 2013. The first day of the meeting will take place via webinar and audio-video conference technology. Web and audio instructions to participate in this meeting will be prominently posted on the OA homepage: http://www.doleta.gov/oa/. Members of the public are encouraged to attend the meeting virtually. For members of the public wishing to attend in person, a listening room with limited seating will be made available upon request. The location for the listening room will be: U.S. Department of Labor, Frances Perkins Building, 200 Constitution Avenue NW., Washington, DC 20210. (Please consult the Security Instructions for the Frances Perkins Building below). The second first day of the meeting will take place at the Department of Labor, Frances Perkins Building, 200 Constitution Avenue NW., Washington, DC, 20210, Room, C5515. Members of the public are encouraged to arrive early to allow for security clearance into the Francis Perkins Building.

Security Instructions for June 6, 2013 at the Frances Perkins Building: Meeting participants should use the visitor's entrance to access Frances Perkins Building, one block north of Constitution Avenue on at 3rd and C Streets NW. For security purposes meeting participants must:

1. Present a valid photo ID to receive a visitor badge.

2. Know the name of the event you are attending: the meeting event is the Advisory Committee on Apprenticeship.

3. Visitor badges are issued by the security officer at the Visitor Entrance located at 3rd and C Streets NW. When you receive your visitor badge, the security officer will retain your photo ID until you return the visitor badge.

4. Laptops and other electronic devices may be inspected and logged for identification purposes.

5. Due to limited parking options, Metro rail is the easiest way to access the Frances Perkins Building.

Notice of Intent to Attend the Meeting: All meeting participants, whether attended either session, virtually or in person, are being asked to submit a notice of intent to attend by Wednesday, September 4, 2013, via email to Mr. John V. Ladd at oa.administrator@dol.gov, subject line “September 2013 ACA Meeting.” Please indicate if you will be attending the meeting on both days. This information is necessary to provide adequate space to accommodate all meeting participants. If individuals have special needs and/or disabilities that will require special accommodations, please contact Kenya Huckaby on (202) 693-3795 or via email at Huckaby.kenya@dol.gov no later than Wednesday, September 4, 2013. The webinar will be limited to 200 participants, unless OA receives more than 200 submissions to attend. Any member of the public who wishes to file written data or comments pertaining to the agenda may do so by sending the data or comments to Mr. John V. Ladd via email at oa.administrator@dol.gov, subject line “September 2013 ACA Meeting,” or submitting to the Office of Apprenticeship, Employment and Training Administration, U.S. Department of Labor, Room N-5311, 200 Constitution Avenue NW., Washington, DC 20210. Such submissions will be included in the record for the meeting if received by Wednesday, September 4, 2013.

Purpose of the Meeting and Topics To Be Discussed: The primary purpose of the meeting is to discuss and approve final recommendations to improve veterans' access to Registered Apprenticeship (RA); develop a implementation plan for the recently approved Vision for Registered Apprenticeship in the 21st Century Report, and begin discussions on the need for concerted efforts to improve the rate of women's participation in Registered Apprenticeship. The meeting agenda will include the following:

• Follow-up Discussion from the June 2013 Meeting

• Deliberation on Proposed Recommendations to the Secretary to improve the transition of Veterans into Registered Apprenticeship

• Workgroup Breakout Sessions: (1) Expansion/Quality; (2) Education/Partnerships; and (3) Increasing Opportunities

• Workgroup Report Outs: Proposed Priorities, Metrics, and Work plan for the Year Ahead

• Discuss Women's Participation in Registered Apprenticeship.

• Other Matters of Interest to the Apprenticeship Community

• Public Comment

• Adjourn

The agenda may be updated should priority items come before the ACA between the time of this publication and the scheduled date of the ACA meeting. All meeting updates will be posted to the Office of Apprenticeship's homepage: http://www.doleta.gov/oa/. Any member of the public who wishes to speak at the meeting should indicate the nature of the intended presentation and the amount of time needed by furnishing a written statement to the Designated Federal Official, Mr. John V. Ladd, by, Wednesday, September 4, 2013. The Chairperson will announce at the beginning of the meeting the extent to which time will permit the granting of such requests.

Signed at Washington, DC, this 30th day of July 2013.
Eric Seleznow,
Acting Assistant Secretary for the Employment and Training Administration.

[FR Doc. 2013-19847 Filed 8-14-13; 8:45 am]

BILLING CODE 4510-FR-P